DEPARTMENT OF AGRICULTURE

Forest Service

Santa Fe National Forest; New Mexico; Southwest Jemez Mountains Landscape Restoration Project Environmental Impact Statement

AGENCY: Forest Service, USDA.

ACTION: Notice of intent to prepare an environmental impact statement

SUMMARY: The Santa Fe National Forest is proposing to conduct ecological restoration activities on up to 110,000 acres within the greater Southwest Jemez Mountains (SWJM) landscape area over 10 years. Treatment areas are located on the Jemez Ranger District and would occur in the vicinity of Jemez Springs, New Mexico. The goal is to make the landscape less susceptible to undesirable, large-scale disturbances such as high-severity wildfire, climate change, or insects. Proposed actions include improving fish and wildlife habitat, vegetative diversity, and watershed function. Implementing the treatments will provide wood products and economic opportunities.

DATES: Comments concerning the scope of the analysis must be received 30 days from date of publication of this notice in the Federal Register. The draft environmental impact statement is expected in April, 2013, and the final environmental impact statement is expected in August, 2013.

ADDRESSES: Send written comments to Southwest Jemez Mountains Project, Santa Fe National Forest, 11 Forest Lane, Santa Fe, NM 87508. Comments may also be sent via email to jemezrestoration@fs.fed.us, or via facsimile to 505-438-5390.

FOR FURTHER INFORMATION CONTACT: Julie Bain, NEPA Coordinator, via email at jbain@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

There is a need to restore forest and riparian ecosystems in the Southwest Jemez Mountains landscape because current ecological conditions are not meeting or moving toward the desired conditions described in the Forest Plan and the Southwest Jemez Mountains Landscape Strategy. To meet the goal of improved resilience and function, we identified four purposes. First, reduce the potential for uncharacteristically severe and intense wildfires while promoting the low-intensity, frequent surface fires that were common across this landscape. To achieve this, there is a need for: (a) Forest stands with a mosaic of grassy openings, shrubs, and groups of trees of various sizes and ages; (b) native perennial grasses, shrubs, and forbs that can carry low-severity fire across the landscape; (c) more old-growth ponderosa pine and mixed conifer stands; and (d) reduced amounts of live and dead fuels. Second, improve the function of riparian ecosystems, streams, and wildlife habitat. To achieve this, there is a need for: (a) Native riparian vegetation along streams and more pools, riffles, and large woody debris within streams; (b) fewer impacts from livestock and elk in riparian areas and along stream banks; (c) less erosion, bare soil, and unstable or raw stream banks; (d) less erosion and fewer headcuts and gullies in upland areas; (e) fewer impacts from roads; (f) fewer nonnative invasive plants; (g) springs and seeps that function at or near their potential; and (e) more structural and understory diversity in northern goshawk and Mexican spotted owl habitat. The third purposed is to offset treatment costs and provide economic opportunity. To achieve this, there is a need for: (a) A source of wood products for commercial and personal use, and (b) a transportation system to implement activities and remove wood products. Finally, the fourth purpose of this project is to provide for the sustainability of archaeological sites, traditional cultural properties, sacred sites, and forest resources and areas associated with traditional practices. To do this, there is a need for: (a) Reduced amounts of fuel on archaeological sites; (b) erosion control measures on archaeological sites; (c) forests that provide continued availability to engage in traditional practices; and (3) fewer road-related impacts on archaeological sites.

Proposed Action

In response to the purpose and need, the Santa Fe National Forest proposes to conduct forest and watershed restoration treatments on up to 110,000 acres of National Forest System lands in the Southwest Jemez Mountains for up to 10 years, or until treatments are completed. The proposed restoration activities would occur in all ecosystems in the area, including ponderosa pine, mixed conifer, piñon-juniper, riparian areas, meadows, and aspen. The forest restoration activities would focus on thinning and burning treatments that would reduce stand density, continuity, and homogeneity, and increase heterogeneity (structural diversity at the landscape scale). Stream and riparian restoration activities would occur in and along a number of the perennial streams in the area to improve water quality and habitat for fish and aquatic species. Wildlife habitat restoration activities are designed to create diverse forest and meadow habitat where wildlife can find food, water and shelter. Cultural resource sites would be protected from uncharacteristically severe fires and the flooding and erosion that follow. Streams, watersheds, and cultural resources would benefit from road treatments. The draft proposed action would:

* Cut trees individually and in groups with variable spacing and canopy opening sizes. Treatment would be accomplished by manually or mechanically cutting down (felling) trees and mechanically shredding (masticating) trees, depending on specific conditions. Thinning slash may be piled, lopped and scattered, chipped, or masticated. Merchantable wood products would be removed from sites where feasible, based on road access, slope, terrain, and economic factors.

* Conduct prescribed burns using different methods and intensities including low- to moderate-intensity, initial entry burns; low-intensity post-thinning burns to reduce slash or other surface fuels; and low-intensity maintenance burns where thinning and burning have occurred. Burning would continue to be periodically conducted to maintain the natural 5 to 15 year fire cycle, depending on the forest type and location. Aerial and manual ignitions would be used.

* Maintain selected roads needed for access. Road maintenance includes smoothing out road surfaces, improving drainage, and stabilizing stream crossings.

*Open closed roads where needed for access and wood removal. Conduct road maintenance on these roads as needed. Roads would be closed after they are no longer needed.

*Eliminate unnecessary roads and trails (routes) through decommissioning. This can include physically closing a route to public use while maintaining that route for occasional administrative access by Forest Service personnel or specified permittees. Various methods would be used depending on site-specific conditions and land uses. Decisions about access are not included in this project.

*Constructing temporary roads where needed for access and wood product removal. After the temporary roads are no longer needed, they would be obliterated. No new permanent roads would be constructed.

*Maintain the road system by developing new and/or expanding existing gravel pits.

*Restore stream and riparian ecosystems to help improve water quality, fish habitat, riparian and meadow habitat, and watershed functions. Treatments include: Tilling and seeding denuded campsites and trails to encourage vegetation; installing structures to control erosion and stabilize stream banks and stream-road crossings; planting native riparian vegetation along stream corridors; placing logs in streams to improve pool formation and aquatic habitat conditions; protecting large meadow habitat; installing riparian exclosure fences or barriers to reduce elk and livestock use along streams; treating headcuts in arroyos in riparian meadows; thinning toe slopes and creating large woody debris; controlling invasive plants; and replacing, repairing, or installing water sources to encourage elk and cattle use in the uplands.

*Improve and enhance wildlife habitat by cutting encroaching conifers to restore upland and riparian grassy meadow habitat; regenerating aspen stands by cutting encroaching conifers and conducting prescribed burns; maintaining existing water sources and/or constructing new water sources; screening wildlife water sources; creating snags; restoring upland and floodplain meadows; removing Kentucky bluegrass and reestablishing native bunchgrasses; and maintaining the desired amount of downed logs, snags, and forest floor down woody debris.

*Protect cultural resources by reducing fuel and controlling erosion on archaeological sites and reducing fuel on traditional cultural properties and sacred sites.

All proposed thinning, mowing (of tree seedlings), and prescribed fire treatments may be used indefinitely after the initial treatments to maintain or further reduce tree densities and fuel loads.

Possible Alternatives

A full range of alternatives to the proposed action, including a no-action alternative, will be considered. The no-action alternative represents no change and serves as the baseline for the comparison among the action alternatives.

Responsible Official

The responsible official is the Forest Supervisor of the Santa Fe National Forest.

Decision To Be Made

The Forest Supervisor—the Responsible Official for this project—will decide whether or not to implement the proposed activities on all or portions of the 110,000-acre analysis area using one or more of the methods described. She will also decide which forest plan amendments to adopt.

Permits or Licenses Required

The discharge of dredged and fill material resulting from the instream habitat improvement treatments requires a Section 404 permit from the U.S. Army Corps of Engineers.

The discharge of pollutants (sediment) to waters of the U.S. requires a Clean Water Act 401 Water Quality Certification and a Clean Water Act 402 National Pollutant Discharge Elimination System (NDPES) permit from the New Mexico Environment Department.

Consult with and obtain concurrence from the U.S. Fish and Wildlife Service on the listed species to address and on the biological assessment, and continue consultation with the U.S. Fish and Wildlife Service in accordance with Section 7 of the Endangered Species Act.

Consult with the New Mexico State Historic Preservation Officer, tribes, and consulting parties regarding identification, evaluation, and determination of effects of the project on cultural resources in accordance with Section 106 of the National Historic Preservation Act.

Scoping Process

This notice of intent initiates the scoping process, which guides the development of the environmental impact statement. Ongoing collaborative efforts regarding restoration in the Southwest Jemez Mountains will continue. A variety of public involvement and collaboration activities such as open house meetings, field trips, and interagency workshops will be scheduled beginning in July 2012. Public meetings are tentatively scheduled for July 24, 26, 31 and August 2, 2012. The dates, times, and locations of the public scoping meetings will be posted on the forest's Web site at: http://www.fs.usda.gov/detail/santafe/home/?cid=FSBDEV7_021009.

It is important that reviewers provide their comments by the closing date and in such a manner that they are useful to the agency's preparation of the environmental impact statement. Therefore, comments should clearly articulate the reviewer's concerns and contentions.

Comments received in response to this solicitation, including names and addresses of those who comment, will become part of the public record for this proposed action. Comments submitted anonymously will be accepted and considered, however.

Dated: July 5, 2012.
Maria T. Garcia,
Forest Supervisor.

[FR Doc. 2012-16895 Filed 7-10-12; 8:45 am]

BILLING CODE 3410-11-P